DEPARTMENT OF TRANSPORTATION

Federal Aviation Administration

14 CFR Part 39

[Docket No. FAA-2012-0732; Directorate Identifier 2012-CE-022-AD; Amendment 39-17311; AD 2012-26-16]

RIN 2120-AA64

Airworthiness Directives; Pilatus Aircraft Ltd. Airplanes

AGENCY: Federal Aviation Administration (FAA), Department of Transportation (DOT).

ACTION: Final rule.

SUMMARY: We are superseding an existing airworthiness directive (AD) for all Pilatus Aircraft Ltd. Models PC-12, PC-12/45, PC-12/47, and PC-12/47E airplanes. This AD results from mandatory continuing airworthiness information (MCAI) issued by an aviation authority of another country to identify and correct an unsafe condition on an aviation product. The MCAI describes the unsafe condition as a need to incorporate new revisions into the Limitations section, Chapter 4, of the FAA-approved maintenance program (e.g., maintenance manual). We are issuing this AD to require actions to address the unsafe condition on these products.

DATES: This AD is effective March 26, 2013.

The Director of the Federal Register approved the incorporation by reference of certain publications listed in the AD as of March 26, 2013.

The Director of the Federal Register approved the incorporation by reference of a certain other publication listed in this AD as of August 19, 2009 (74 FR 34213, July 15, 2009).

ADDRESSES: You may examine the AD docket on the Internet at http://www.regulations.gov or in person at Document Management Facility, U.S. Department of Transportation, Docket Operations, M-30, West Building Ground Floor, Room W12-140, 1200 New Jersey Avenue SE., Washington, DC 20590.

For service information identified in this AD, contact Pilatus Aircraft Ltd., Customer Service Manager, CH-6371 STANS, Switzerland; telephone: +41 (0) 41 619 62 08; fax: +41 (0) 41 619 73 11; Internet: http://www.pilatus-aircraft.com or email: SupportPC12@pilatus-aircraft.com. You may review copies of the referenced service information at the FAA, Small Airplane Directorate, 901 Locust, Kansas City, Missouri 64106. For information on the availability of this material at the FAA, call (816) 329-4148.

FOR FURTHER INFORMATION CONTACT: Doug Rudolph, Aerospace Engineer, FAA, Small Airplane Directorate, 901 Locust, Room 301, Kansas City, Missouri 64106; telephone: (816) 329-4059; fax: (816) 329-4090; email: doug.rudolph@faa.gov.

SUPPLEMENTARY INFORMATION:

Discussion

We issued a supplemental notice of proposed rulemaking (SNPRM) to amend 14 CFR part 39 to include an AD that would apply to the specified products. That SNPRM was published in the Federal Register on October 22, 2012 (77 FR 64442), which proposed to supersede AD 2009-14-13, Amendment 39-15963 (74 FR 34213, July 15, 2009).

Since we issued AD 2009-14-13, Amendment 39-15963 (74 FR 34213, July 15, 2009), Pilatus Aircraft Ltd. has issued revisions to the Limitations section of the airplane maintenance manual to include an inspection of the wing main spar fastener holes at rib 6 for cracks.

The European Aviation Safety Agency (EASA), which is the Technical Agent for the Member States of the European Community, has issued AD No. 2012-0099, dated June 8, 2012 (referred to after this as “the MCAI”), to correct an unsafe condition for the specified products. The MCAI states:

The mandatory instructions and airworthiness limitations applicable to the Structure and Components of the PC-12 are specified in the Aircraft Maintenance Manual (AMM) under Chapter 4. Prompted by a crack found on one wing of the aeroplane fleet leader, a more restrictive airworthiness limitation was introduced, in that manual, for the inspection of the main spar rib 6 strap fastener.

These documents include the maintenance instructions and/or airworthiness limitations developed by Pilatus Aircraft Ltd. and approved by EASA. Failure to comply with these instructions and limitations could potentially lead to unsafe condition.

For the reasons described above, this AD requires the implementation of more restrictive maintenance instructions and/or airworthiness limitations.

You may obtain further information by examining the MCAI in the AD docket.

Comments

We gave the public the opportunity to participate in developing this AD. We received no comments on the SNPRM (77 FR 64442, October 22, 2012) or on the determination of the cost to the public.

Conclusion

We reviewed the relevant data and determined that air safety and the public interest require adopting the AD as proposed except for minor editorial changes. We have determined that these minor changes:

• Are consistent with the intent that was proposed in the SNPRM (77 FR 64442, October 22, 2012) for correcting the unsafe condition; and

• Do not add any additional burden upon the public than was already proposed in the SNPRM (77 FR 64442, October 22, 2012).

Costs of Compliance

We estimate that this AD will affect 678 products of U.S. registry. We also estimate that it will take about 3.5 work-hours per product to comply with the basic requirements of this AD. The average labor rate is $85 per work-hour. Required parts will cost about $300 per product. Based on these figures, we estimate the cost of this AD on U.S. operators to be $405,105, or $597.50 per product.

In addition, we estimate that any necessary corrective actions that must be taken based on incorporating the new revisions into the limitation section of the maintenance manual will take about 6 work-hours and require parts costing approximately $4,000, for a cost of $4,510 per product. We have no way of determining the number of products that may need these necessary corrective actions.

We estimate that it will take about 12 work-hours per product to comply with the new addition of the wing main spar fastener holes inspection requirement of this AD. The average labor rate is $85 per work-hour. Based on these figures, we estimate the cost of the wing main spar fastener holes on U.S. operators to be $691,560, or $1,020 per product.

In addition, we estimate that any necessary repairs to the wing main spar will take about 7 work-hours and require parts costing approximately $5,000, for a cost of $5,595 per product. We have no way of determining the number of products that may need these corrective actions.

Authority for This Rulemaking

Title 49 of the United States Code specifies the FAA's authority to issue rules on aviation safety. Subtitle I, section 106, describes the authority of the FAA Administrator. “Subtitle VII: Aviation Programs,” describes in more detail the scope of the Agency's authority.

We are issuing this rulemaking under the authority described in “Subtitle VII, Part A, Subpart III, Section 44701: General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We determined that this AD will not have federalism implications under Executive Order 13132. This AD will not have a substantial direct effect on the States, on the relationship between the national government and the States, or on the distribution of power and responsibilities among the various levels of government.

For the reasons discussed above, I certify this AD:

(1) Is not a “significant regulatory action” under Executive Order 12866,

(2) Is not a “significant rule” under the DOT Regulatory Policies and Procedures (44 FR 11034, February 26, 1979),

(3) Will not affect intrastate aviation in Alaska, and

(4) Will not have a significant economic impact, positive or negative, on a substantial number of small entities under the criteria of the Regulatory Flexibility Act.

Examining the AD Docket

You may examine the AD docket on the Internet at http://www.regulations.gov; or in person at the Docket Management Facility between 9 a.m. and 5 p.m., Monday through Friday, except Federal holidays. The AD docket contains the SNPRM (77 FR 64442, October 22, 2012), the regulatory evaluation, any comments received, and other information. The street address for the Docket Office (telephone (800) 647-5527) is in the ADDRESSES section. Comments will be available in the AD docket shortly after receipt.

List of Subjects in 14 CFR Part 39

Air transportation, Aircraft, Aviation safety, Incorporation by reference, Safety.

Adoption of the Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The FAA amends § 39.13 by removing Amendment 39-15963 (74 FR 34213, July 15, 2009), and adding the following new AD:

2012-26-16 Pilatus Aircraft Ltd.: Amendment 39-17311; Docket No. FAA-2012-1052; Directorate Identifier 2012-CE-014-AD.

(a) Effective Date

This airworthiness directive (AD) becomes effective March 26, 2013.

(b) Affected ADs

This AD supersedes AD 2009-14-13, Amendment 39-15963 (74 FR 34213, July 15, 2009).

(c) Applicability

This AD applies to Pilatus Aircraft Ltd. Models PC-12, PC-12/45, PC-12/47, and PC-12/47E airplanes, all manufacturer serial numbers (MSNs), certificated in any category.

(d) Subject

Air Transport Association of America (ATA) Code 05: Time Limits.

(e) Reason

This AD was prompted by mandatory continuing airworthiness information (MCAI) originated by an aviation authority of another country to identify and correct an unsafe condition on an aviation product. The MCAI describes the unsafe condition as a need to incorporate new revisions into the Limitations section, Chapter 4, of the FAA-approved maintenance program (e.g., maintenance manual). The limitations were revised to include an inspection of the wing main spar fastener holes at rib 6 for cracks. These actions are required to ensure the continued operational safety of the affected airplanes.

(f) Actions and Compliance

Unless already done, do the following actions:

(1) For Models PC-12 and PC-12/45 airplanes, MSNs 101 through 299: Within the next 100 hours time-in-service (TIS) after August 19, 2009 (the effective date retained from AD 2009-14-13, Amendment 39-15963 (74 FR 34213, July 15, 2009)) or 1 year after August 19, 2009 (the effective date retained from AD 2009-14-13), whichever occurs first, replace the torque tube part number (P/N) 532.50.12.047 with torque tube P/N 532.50.12.064 following PILATUS AIRCRAFT LTD. Service Bulletin No: 32-021, dated November 21, 2008.

(2) For all airplanes: As of March 26, 2013 (the effective date of this AD), do not install torque tube P/N 532.50.12.047.

(3) For all airplanes: Before further flight after March 26, 2013 (the effective date of this AD), insert Data module code 12-A-04-00-00-00A-000A-A, “STRUCTURAL, COMPONENT AND MISCELLANEOUS—AIRWORTHINESS LIMITATIONS,” dated October 15, 2012, of the Pilatus Model Identification: 12 Aircraft Maintenance Manual, PC12, PC12/45, PC 12/47 AMM Document No. 02049, 12-A-AM-00-00-00-I, revision 26, dated December 15, 2012, for Models PC-12, PC-12/45, PC-12/47, and Data module code 12-B-04-00-00-00A-000A-A, “STRUCTURAL AND COMPONENT LIMITATIONS—AIRWORTHINESS LIMITATIONS,” dated October 15, 2012, of the Pilatus Model Identification: 12 Aircraft Maintenance Manual, PC 12/47E AMM Document No. 02300, 12-B-AM-00-00-00-I, revision 9, dated December 15, 2012, for Model PC-12/47E, into the Limitations section of the FAA-approved maintenance program (e.g., maintenance manual). These limitations section revisions do the following:

(i) Establish an inspection of the wing main spar fastener holes at rib 6,

(ii) Specify replacement of components before or upon reaching the applicable life limit, and

(iii) Specify accomplishment of all applicable maintenance tasks within certain thresholds and intervals.

(4) For all airplanes: If no compliance time is specified in the documents listed in paragraph (f)(3) of this AD when doing any corrective actions where discrepancies are found as required in paragraph (f)(3)(iii) of this AD, do these corrective actions before further flight after doing the applicable maintenance task.

(5) For all airplanes: During the accomplishment of the actions required in paragraphs (f)(3)(i), (f)(3)(ii), and (f)(3)(iii) of this AD, if a discrepancy is found that is not identified in the documents listed in paragraph (f)(3) of this AD, before further flight after finding the discrepancy, contact Pilatus Aircraft Ltd. at the address specified in paragraph (i)(5) of this AD for a repair scheme and incorporate that repair scheme.

(g) Credit for Actions Accomplished in Accordance With Previous Service Information

This paragraph provides credit for the actions required in paragraph (f)(3) of this AD if already done before March 6, 2013 (the effective date of this AD) following Pilatus PC12 Aircraft Maintenance Manual Temporary Revision No. 04-03, dated October 15, 2012, which transmits Unclassified 12-A/AMP-04 “STRUCTURAL, COMPONENT AND MISCELLANEOUS—AIRWORTHINESS LIMITATIONS,” document 12-A-04-00-00-00A-000A-A, dated October 15, 2012; and Pilatus PC12/47E Aircraft Maintenance Manual Temporary Revision No. 04-01, dated October 15, 2012, which transmits Unclassified 12-B/AMP-04 “STRUCTURAL AND COMPONENT LIMITATIONS—AIRWORTHINESS LIMITATIONS,” document 12-B-04-00-00-00A-000A-A, dated October 15, 2012.

(h) Other FAA AD Provisions

The following provisions also apply to this AD:

(1) Alternative Methods of Compliance (AMOCs): The Manager, Standards Office, FAA, has the authority to approve AMOCs for this AD, if requested using the procedures found in 14 CFR 39.19. Send information to ATTN: Doug Rudolph, Aerospace Engineer, FAA, Small Airplane Directorate, 901 Locust, Room 301, Kansas City, Missouri 64106; telephone: (816) 329-4059; fax: (816) 329-4090; email: doug.rudolph@faa.gov.

(i) Before using any approved AMOC on any airplane to which the AMOC applies, notify your appropriate principal inspector (PI) in the FAA Flight Standards District Office (FSDO), or lacking a PI, your local FSDO.

(ii) AMOCs approved for AD 2009-14-13, Amendment 39-15963 (74 FR 34213, July 15, 2009) are not approved as AMOCs for this AD.

(2) Airworthy Product: For any requirement in this AD to obtain corrective actions from a manufacturer or other source, use these actions if they are FAA-approved. Corrective actions are considered FAA-approved if they are approved by the State of Design Authority (or their delegated agent). You are required to assure the product is airworthy before it is returned to service.

(3) Reporting Requirements: For any reporting requirement in this AD, a federal agency may not conduct or sponsor, and a person is not required to respond to, nor shall a person be subject to a penalty for failure to comply with a collection of information subject to the requirements of the Paperwork Reduction Act unless that collection of information displays a current valid OMB Control Number. The OMB Control Number for this information collection is 2120-0056. Public reporting for this collection of information is estimated to be approximately 5 minutes per response, including the time for reviewing instructions, completing and reviewing the collection of information. All responses to this collection of information are mandatory. Comments concerning the accuracy of this burden and suggestions for reducing the burden should be directed to the FAA at: 800 Independence Ave. SW., Washington, DC 20591, Attn: Information Collection Clearance Officer, AES-200.

(i) Related Information

Refer to MCAI European Aviation Safety Agency (EASA) AD No. 2012-0099, dated June 8, 2012; Pilatus Aircraft Ltd. Service Bulletin No: 32-021, dated November 21, 2008; Data module code 12-A-04-00-00-00A-000A-A, “STRUCTURAL, COMPONENT AND MISCELLANEOUS—AIRWORTHINESS LIMITATIONS,” dated October 15, 2012, of the Pilatus Model Identification: 12 Aircraft Maintenance Manual, PC12, PC12/45, PC 12/47 AMM Document No. 02049, 12-A-AM-00-00-00-I, revision 26, dated December 15, 2012; Data module code 12-B-04-00-00-00A-000A-A, “STRUCTURAL AND COMPONENT LIMITATIONS—AIRWORTHINESS LIMITATIONS,” dated October 15, 2012, of the Pilatus Model Identification: 12 Aircraft Maintenance Manual, PC 12/47E AMM Document No. 02300, 12-B-AM-00-00-00-I, revision 9, dated December 15, 2012; Pilatus PC12 Aircraft Maintenance Manual Temporary Revision No. 04-03, dated October 15, 2012, which transmits Unclassified 12-A/AMP-04 “STRUCTURAL, COMPONENT AND MISCELLANEOUS—AIRWORTHINESS LIMITATIONS,” document 12-A-04-00-00-00A-000A-A, dated October 15, 2012; and PC12/47E Aircraft Maintenance Manual Temporary Revision No. 04-01, dated October 15, 2012, which transmits Unclassified 12-B/AMP-04 “STRUCTURAL AND COMPONENT LIMITATIONS—AIRWORTHINESS LIMITATIONS,” document 12-B-04-00-00-00A-000A-A, dated October 15, 2012, for related information.

(i) Material Incorporated by Reference

(1) The Director of the Federal Register approved the incorporation by reference (IBR) of the service information listed in this paragraph under 5 U.S.C. 552(a) and 1 CFR part 51.

(2) You must use this service information as applicable to do the actions required by this AD, unless the AD specifies otherwise.

(3) The following service information was approved for IBR on March 26, 2013.

(i) Data module code 12-A-04-00-00-00A-000A-A, “STRUCTURAL, COMPONENT AND MISCELLANEOUS—AIRWORTHINESS LIMITATIONS,” dated October 15, 2012, of the Pilatus Model Identification: 12 Aircraft Maintenance Manual, PC12, PC12/45, PC 12/47 AMM Document No. 02049, 12-A-AM-00-00-00-I, revision 26, dated December 15, 2012.

(ii) Data module code 12-B-04-00-00-00A-000A-A, “STRUCTURAL AND COMPONENT LIMITATIONS—AIRWORTHINESS LIMITATIONS,” dated October 15, 2012, of the Pilatus Model Identification: 12 Aircraft Maintenance Manual, PC 12/47E AMM Document No. 02300, 12-B-AM-00-00-00-I, revision 9, dated December 15, 2012.

Note to paragraph (i)(3) of this AD: Data module code 12-A-04-00-00-00A-000A-A, “STRUCTURAL, COMPONENT AND MISCELLANEOUS—AIRWORTHINESS LIMITATIONS,” dated October 15, 2012, of the Pilatus Model Identification: 12 Aircraft Maintenance Manual, PC12, PC12/45, PC 12/47 AMM Document No. 02049, 12-A-AM-00-00-00-I, revision 26, dated December 15, 2012; and Data module code 12-B-04-00-00-00A-000A-A, “STRUCTURAL AND COMPONENT LIMITATIONS—AIRWORTHINESS LIMITATIONS,” dated October 15, 2012, of the Pilatus Model Identification: 12 Aircraft Maintenance Manual, PC 12/47E AMM Document No. 02300, 12-B-AM-00-00-00-I, revision 9, dated December 15, 2012, were issued as complete updates to the AMM Airworthiness Limitations sections and incorporate all technical information contained in Pilatus AMM Temporary Revision No. 04-01 and Pilatus AMM Temporary Revision No. 04-03, both dated October 15, 2012.

(4) The following service information was approved for IBR on August 19, 2009 (74 FR 34213, July 15, 2009).

(i) Pilatus Aircraft Ltd. Service Bulletin No: 32-021, dated November 21, 2008.

(ii) Reserved.

(5) For Pilatus Aircraft Ltd. service information identified in this AD, contact Pilatus Aircraft Ltd., Customer Service Manager, CH-6371 STANS, Switzerland; telephone: +41 (0) 41 619 62 08; fax: +41 (0) 41 619 73 11; Internet: http://www.pilatus-aircraft.com or email: SupportPC12@pilatus-aircraft.com.

(6) You may view this service information at the FAA, Small Airplane Directorate, 901 Locust, Kansas City, Missouri 64106. For information on the availability of this material at the FAA, call (816) 329-4148.

(7) You may view this service information that is incorporated by reference at the National Archives and Records Administration (NARA). For information on the availability of this material at NARA, call 202-741-6030, or go to: http://www.archives.gov/federal-register/cfr/index.html.

Issued in Kansas City, Missouri, on February 8, 2013.
John Colomy,
Acting Manager, Small Airplane Directorate, Aircraft Certification Service.

[FR Doc. 2013-03407 Filed 2-15-13; 8:45 am]

BILLING CODE 4910-13-P